DEPARTMENT OF VETERANS AFFAIRS

[OMB Control No. 2900-0521]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to underwrite VA-guaranteed loans.

DATES: Written comments and recommendations on the proposed collection of information should be received on or before August 24, 2004.

ADDRESSES: Submit written comments on the collection of information to Nancy J. Kessinger, Veterans Benefits Administration (20S52), Department of Veterans Affairs, 810 Vermont Avenue, NW., Washington, DC 20420 or e-mail irmnkess@vba.va.gov. Please refer to “OMB Control No. 2900-0521” in any correspondence.

FOR FURTHER INFORMATION CONTACT: Nancy J. Kessinger at (202) 273-7079 or fax (202) 275-5947.

SUPPLEMENTARY INFORMATION: Under the PRA of 1995 (Public Law 104-13; 44 U.S.C. 3501—3520), Federal agencies must obtain approval from the Office of Management and Budget (OMB) for each collection of information they conduct or sponsor. This request for comment is being made pursuant to section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Credit Underwriting Standards and Procedures for Processing VA Guaranteed Loans.

b. Report and Certification of Loan Disbursement, VA Form 26-1820.

c. Request for Verification of Employment, VA Form 26-8497.

d. Request for Verification of Deposit, VA Form 26-8497a.

OMB Control Number: 2900-0521.

Type of Review: Extension of a currently approved collection.

Abstract:

a. Credit Underwriting Standards and Procedures for Processing VA Guaranteed Loans—VA set forth, in regulatory form, standards to be used by lenders in underwriting VA-guaranteed loans and to obtain credit information. Lenders must collect certain specific information concerning the veteran and the veteran's credit history (and spouse or other co-borrower, as applicable), in order to properly underwrite the veteran's loan. A loan may not be guaranteed unless the veteran is a satisfactory credit risk. VA requires the lender to provide the Department with the credit information to assure itself that applications for VA-guaranteed loans are underwritten in a reasonable and prudent manner.

b. VA Form 26-1820 is completed by lenders closing VA guaranteed and insured loans under the automatic or prior approval procedures. Lenders are required to submit with the form, a copy of the loan application (showing income, assets, and obligations) which the lender requires the borrower to execute when applying for the loan; original employment and income verifications obtained from the borrower's place of employment; original verification of assets; and original credit report.

c. VA Form 26-8497 is used by lenders to verify a loan applicant's income and employment information when making guaranteed and insured loans. VA, however, does not require the exclusive use of this form for verification purposes; any comprehensible form or independent verification would be acceptable, provided all information presently shown on VA Form 26-8497 is provided.

d. VA Form 26-8497a is primarily used by lenders making guaranteed and insured loans to verify the applicant's deposits in banks and other savings institutions.

Affected Public: Business or other for profit and Individuals or households.

Estimated Annual Burden: 162,500 hour.

Frequency of Response: On occasion.

Estimated Number of Respondents: 650,000.

Dated: June 21, 2004.
By direction of the Secretary.
Loise Russell,
Director, Records Management Service.

[FR Doc. 04-14440 Filed 6-24-04; 8:45 am]

BILLING CODE 8320-01-P